NUCLEAR REGULATORY COMMISSION

Sunshine Act Meeting Notice

AGENCY HOLDING THE MEETINGS: Nuclear Regulatory Commission.

DATE: Weeks of August 22, 29, and September 5, 12, 19, 26, 2005.

PLACE: Commissioners' Conference Room, 11555 Rockville Pike, Rockville, Maryland.

STATUS: Public and Closed.

MATTERS TO BE CONSIDERED:

Week of August 22, 2005

There are no meetings scheduled for the Week of August 22, 2005.

Week of August 29, 2005—Tentative

There are no meetings scheduled for the Week of August 29, 2005.

Week of September 5, 2005—Tentative

Wednesday, September 7, 2005:

9 a.m.—Discussion of Security Issues (Closed—Ex. 1).

1:30 p.m.—Discussion of Security Issues (Closed—Ex. 3).

Week of September 12, 2005—Tentative

There are no meetings scheduled for the Week of September 12, 2005.

Week of September 19, 2005—Tentative

There are no meetings scheduled for the Week of September 19, 2005.

Week of September 26, 2005—Tentative

There are no meetings scheduled for the Week of September 26, 2005.

The schedule for Commission meetings is subject to change on short notice. To verify the status of meetings call (recording)—(301) 415-1292. Contact person for more information: Michelle Schroll, (301) 415-1662.

The NRC Commission Meeting Schedule can be found on the Internet at: http://www.nrc.gov/what-we-do/policy-making/schedule.html.

The NRC provides reasonable accommodation to individuals with disabilities where appropriate. If you need a reasonable accommodation to participate in these public meetings, or need this meeting notice or the transcript or other information from the public meetings in another format (e.g., braille, large print), please notify the NRC's Disability Program Coordinator, August Spector, at (301) 415-7080, TDD: (301) 415-2100, or by e-mail at aks@nrc.gov. Determinations on requests for reasonable accommodation will be made on a case-by-case basis.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: August 18, 2005.
Dave Gamberoni,
Office of the Secretary.

[FR Doc. 05-16777 Filed 8-19-05; 10:22 am]

BILLING CODE 7590-01-M